Title 3—

The President

Proclamation 10214 of May 18, 2021

National Hepatitis Testing Day, 2021

By the President of the United States of America

A Proclamation

Our efforts to combat the COVID-19 pandemic over the past year have reinforced many public health lessons, including the importance of communication, community engagement, and a comprehensive testing strategy to reduce the spread of infection. These same lessons hold true for another epidemic affecting our Nation: the silent epidemic of viral hepatitis. Viral hepatitis is a serious, preventable public health threat that puts people who are infected at increased risk for serious disease and death. When left undiagnosed and untreated, hepatitis B and hepatitis C can cause liver cirrhosis, liver cancer, and even early death. Hepatitis D, which occurs only among individuals infected with hepatitis B, can also cause serious liver disease. On this National Hepatitis Testing Day, I call on all Americans who are at risk for hepatitis to get tested, and for all health care providers to educate their patients about viral hepatitis.

Our Nation has set a goal to eliminate viral hepatitis by 2030. Thanks to Federal investment in medical research, we have the technology and tools to provide safe and effective hepatitis vaccines and therapeutics that can reduce mortality and even lead to a cure. Despite this progress, an estimated 2.4 million Americans are living with hepatitis C, and more than 860,000 are living with hepatitis B—many of whom unknowingly suffer its effects. Approximately 200,000 Americans are infected with hepatitis D every year. Infection with hepatitis D in an individual already infected with hepatitis B—known as superinfection—leads to a more rapid progression towards liver cancer. We must increase prevention, testing, and awareness to provide people the life-saving treatment they need. Because of the Affordable Care Act, most health insurance plans must cover hepatitis B and hepatitis C testing with no cost-sharing.

The Centers for Disease Control and Prevention recommends screening and testing for hepatitis B, hepatitis C, and hepatitis D based on risk, health status, and pregnancy. It is important we implement these recommendations to ensure proper treatment and help stop the spread of hepatitis. For more information on the recommendations, visit cdc.gov/hepatitis.

My Administration is committed to addressing the health disparities and health inequities, which, as with so many health metrics, are also seen with viral hepatitis. Viral hepatitis disproportionately impacts Black and brown Americans, Indigenous persons, Asian Americans, Native Hawaiians, and Pacific Islanders. The interplay of factors such as poverty, inadequate housing and transportation, food insecurity, access to care, access to addiction treatment and mental health care, medical mistrust, language and cultural barriers, stigma, and discrimination must be addressed if we are to eliminate these health disparities and advance health equity. The recently released Viral Hepatitis National Strategic Plan: A Roadmap to Elimination is focused on making sure more people living with viral hepatitis are tested and aware of their status and providing a roadmap for quality care and treatment. To read more about the plan, visit hhs.gov/hepatitis.

The viral hepatitis epidemic is also linked with other public health threats, including HIV, sexually transmitted infections, and opioid use. Our response to the public health challenges of viral hepatitis, HIV, sexually transmitted infections, and substance use disorders will require a focus on the people and places where these risk factors intersect, and doing more to test people for viral hepatitis and other infections. We also need to scale-up vaccinations, testing, and care in settings where people at risk receive other services. Implementing point-of-care testing in outreach settings, utilizing clinical decision support tools, and increasing provider awareness and training for implementing testing recommendations will help improve diagnoses and awareness. The ability to reduce viral hepatitis infections will depend on integrated strategies and a comprehensive approach to address our ongoing challenges.

Viral hepatitis exacts a significant toll on our Nation's health, and the stigma and discrimination associated with the disease further impair the quality of life among those affected. Today, we reaffirm our commitment to ensuring everyone knows their viral hepatitis status, has access to high quality care and treatment, and lives free from stigma and discrimination.

NOW, THEREFORE, I, JOSEPH R. BIDEN JR., President of the United States of America, by virtue of the authority vested in me by the Constitution and the laws of the United States, do hereby proclaim May 19, 2021, as National Hepatitis Testing Day. I encourage all Americans to join in activities that will increase awareness about viral hepatitis and increase viral hepatitis testing.

IN WITNESS WHEREOF, I have hereunto set my hand this eighteenth day of May, in the year of our Lord two thousand twenty-one, and of the Independence of the United States of America the two hundred and forty-fifth.

[FR Doc. 2021-10922

Filed 5-20-21; 8:45 am]

Billing code 3295-F1-P